DEPARTMENT OF THE INTERIOR

Bureau of Land Management

[19X.LLID930000.L11700000.DF0000.LXSGPL000000.241A.4500132602]

Notice of Availability of the Record of Decision for the Final Programmatic Environmental Impact Statement for Fuel Breaks in the Great Basin; California, Idaho, Oregon, Nevada, Utah, and Washington

AGENCY: Bureau of Land Management, Interior.

ACTION: Notice of availability.

SUMMARY: In accordance with the National Environmental Policy Act of 1969, as amended, the Bureau of Land Management (BLM) announces the availability of the Record of Decision (ROD) for the Final Programmatic Environmental Impact Statement (EIS) for Fuel Breaks in the Great Basin.

ADDRESSES: Copies of the ROD for the Final Programmatic EIS for Fuel Breaks in the Great Basin are available for public inspection during regular business hours at the BLM Idaho State Office, 1387 South Vinnell Way, Boise, ID 83709. Interested persons may also review the Final Programmatic EIS online at: https://go.usa.gov/xnQcG. Additional copies can be made available at the BLM California, Nevada, Oregon/Washington and Utah BLM State Offices upon request.

FOR FURTHER INFORMATION CONTACT: Ammon Wilhelm, telephone 208-373-3824; address BLM Idaho State Office, 1387 South Vinnell Way, Boise, ID 83709; email awilhelm@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: Strategically placed fuel breaks in the Great Basin region improve firefighter safety and expand opportunities to catch rapidly moving fires, potentially reducing fire size. Fuel breaks provide greater protection of human life and property, sagebrush communities, and habitat restoration investments. Reducing fire size helps limit the expansion of invasive plants such as cheatgrass and medusahead. Fuel breaks address the increased size and frequency of wildfires throughout the western United States. From 2009 through 2018, over 13.5 million acres of BLM-administered lands burned within the project area, impacting healthy rangelands, sagebrush communities, and the general productivity of the lands. Larger and more frequent wildfires result in increased risk for injuries and fatalities among wildland firefighters, destruction of private property, degradation and loss of rangelands, loss of recreational opportunities, habitat loss for a variety of species, and conversion of native habitats to invasive annual grasses. Conversion of native habitats to invasive annual grasslands impedes rangeland health and productivity by slowing or preventing the recovery of sagebrush communities.

The Selected Alternative (Alternative D) analyzes a full suite of manual, chemical and mechanical treatments, including prescribed fire, seeding, and targeted grazing, to construct and maintain up to 11,000 miles of fuel breaks. This will remove or alter vegetation on up to 667,000 acres within 38 million acres of sagebrush communities. Fuel break types include green strips (areas planted with low-statured, fire-resistant vegetation), brown strips (areas where all vegetation is removed), and mowed strips (reduced vegetation height).

The NOA for the Draft Programmatic EIS published on June 21, 2019, initiating a 45-day public comment period (84 FR 29232). During July 2019, the BLM hosted 12 public meetings throughout the six-state project area. Agencies, organizations, and interested parties provided comments on the Draft Programmatic EIS via mail, email, and at the public meetings. The BLM received 907 form letters and 138 unique comment letters. The BLM considered and incorporated comments received from the public and internal review into the Final Programmatic EIS as appropriate. Public comments resulted in the addition of clarifying text but did not significantly change the alternatives or analysis.

The NOA for the Final Programmatic EIS was published on February 14, 2020, for a 30-day review period (85 FR 8585). On March 26, 2020, I signed the Record of Decision selecting Alternative D for implementation. That approval constitutes the final decision of the Department and, in accordance with the regulations at 43 CFR 4.410, is not subject to appeal under Departmental regulations found in 43 CFR part 4. Any challenge to this decision must be brought in Federal District Court and is subject to 42 U.S.C. 437m-6.

(Authority: 40 CFR 1506.6, 40 CFR 1506.10).

David L. Bernhardt,
Secretary of the Interior.

[FR Doc. 2020-06898 Filed 4-1-20; 8:45 am]

BILLING CODE 4310-GG-P